DEPARTMENT OF TRANSPORTATION

Federal Aviation Administration

14 CFR Part 71

[Docket No. FAA-2017-0969; Airspace Docket No. 17-ANM-18]

Amendment of Class D and Class E Airspace; Twin Falls, ID

AGENCY: Federal Aviation Administration (FAA), DOT.

ACTION: Final rule.

SUMMARY: This action modifies Class E airspace designated as an extension, and modifies Class E airspace extending upward from 700 feet above the surface at Joslin Field-Magic Valley Regional Airport, Twin Falls, ID. Also, the part-time Notice to Airmen (NOTAM) status is removed from Class E airspace designated as an extension. Additionally, an editorial change is made to the Class D airspace, Class E surface airspace, and Class E extension airspace legal descriptions replacing “Airport/Facility Directory” with the term “Chart Supplement.” Also, this action removes the words “Twin Falls” from the airport name in the airspace designations for Class D and E airspace. These actions are necessary to accommodate airspace redesign for the safety and management of instrument flight rules (IFR) operations within the National Airspace System.

DATES: Effective 0901 UTC, May 24, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 2200 S. 216th Street, Des Moines, WA 98198; telephone (206) 231-2253.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and E airspace at Joslin Field-Magic Valley Regional Airport, Twin Falls, ID, in support of IFR operations at the airport.

History

The FAA published in the Federal Register (82 FR 57556; December 6, 2017) for Docket FAA-2017-0969, a notice of proposed rulemaking to modify Class D airspace, Class E surface area airspace, Class E airspace designated as an extension, and Class E airspace extending upward from 700 feet above the surface at Joslin Field-Magic Valley Regional Airport, Twin Falls, ID. Interested parties were invited to participate in this rulemaking effort by submitting written comments on the proposal to the FAA. No comments were received.

Class D and E airspace designations are published in paragraph 5000, 6002, 6004, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) Part 71 by modifying Class E airspace designated as an extension to a Class D or Class E surface area, and Class E airspace extending upward from 700 feet above the surface at Joslin Field-Magic Valley Regional Airport, Twin Falls, ID.

Class E airspace designated as an extension to a Class D or Class E surface area is reduced to a 5-mile wide segment (from 8.6-miles wide) extending to 7 miles (from 9.2 miles) east, and a 5-mile wide segment (from 8.6 miles wide) extending to 7.1 miles (from 9.2 miles) west of the airport. Also, the part-time Notice to Airmen (NOTAM) status is removed from Class E airspace designated as an extension, as this airspace is continuous.

Class E airspace extending upward from 700 feet above the surface is reduced to a 12-mile wide segment (from a 16.5-mile segment) extending to 21.9 miles (from 26.1 miles) east, and 16 miles (from 20 miles) west of the airport. Also, the small extension to 8.2 miles southeast of the airport is removed.

Finally, this action replaces the outdated term “Airport/Facility Directory” with the term “Chart Supplement” in the Class D, and Class E surface airspace legal descriptions, and removes the words “Twin Falls” from the airport name in the airspace designations for Class D and E airspace noted in this action.

These modifications are necessary for the safety and management of IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

ANM ID D Twin Falls, ID [Amended]

Joslin Field-Magic Valley Regional Airport, ID

(Lat. 42°28′55″ N, long. 114°29′16″ W)

That airspace extending upward from the surface to and including 6,700 feet MSL within a 4.3-mile radius of Joslin Field-Magic Valley Regional Airport. This Class D airspace area is effective during the specific dates and times established in advance by a Notice to Airmen. The effective date and time will thereafter be continuously published in the Chart Supplement.

Paragraph 6002 Class E Airspace Areas Designated as Surface Areas.

* * * * *

ANM ID E2 Twin Falls, ID [Amended]

Joslin Field-Magic Valley Regional Airport, ID

(Lat. 42°28′55″ N, long. 114°29′16″ W)

That airspace within a 4.3-mile radius of Joslin Field-Magic Valley Regional Airport. This Class E airspace area is effective during the specific dates and times established in advance by a Notice to Airmen. The effective date and time will thereafter be continuously published in the Chart Supplement.

Paragraph 6004 Class E Airspace Areas Designated as an Extension to a Class D or Class E Surface Area.

* * * * *

ANM ID E4 Twin Falls, ID [Amended]

Joslin Field-Magic Valley Regional Airport, ID

(Lat. 42°28′55″ N, long. 114°29′16″ W)

That airspace extending upward from the surface within 2.5 miles each side of the 087° bearing from Joslin Field-Magic Valley Regional Airport extending from the 4.3 mile radius of the airport to 7 miles east of the airport, and within 2.5 miles each side of the airport 274° bearing extending from the airport 4.3-mile radius to 7.1 miles west of the airport.

ANM ID E5 Twin Falls, ID [Amended]

Joslin Field-Magic Valley Regional Airport, ID

(Lat. 42°28′55″ N, long. 114°29′16″ W)

That airspace extending upward from 700 feet above the surface within 4.3 miles south and 8 miles north of the 091° bearing from Joslin Field-Magic Valley Regional Airport extending from the airport to 22 miles east of the airport, and within 4.3 miles south and 8 miles north of the airport 275° bearing extending from the airport to 16 miles west of the airport. That airspace extending upward from 1,200 feet above the surface bounded by a line beginning at lat. 43°22′00″ N, long. 115°08′00″ W; to lat. 43°09′00″ N, long. 114°03′00″ W; to lat. 42°33′00″ N, long. 114°03′00″ W; to lat. 42°18′00″ N, long. 114°06′00″ W; to lat. 41°48′00″ N, long. 115°00′00″ W; to lat. 43°01′00″ N, long. 115°20′00″ W, thence to the point of beginning.

Issued in Seattle, Washington, on March 6, 2018.
Shawn M. Kozica,
Manager, Operations Support Group, Western Service Center.

[FR Doc. 2018-05050 Filed 3-14-18; 8:45 am]

BILLING CODE 4910-13-P